DEPARTMENT OF ENERGY

Federal Energy Regulatory Commission

[Docket No. RM24-4-000]

Supply Chain Risk Management Reliability Standards Revisions; Notice of Supply Chain Workshop

Take notice that staff of the Federal Energy Regulatory Commission and the North American Electric Reliability Corporation will hold a joint workshop on March 20, 2025, from 1 p.m. to 5 p.m. at the Federal Energy Regulatory Commission, 888 First Street NE, Washington, DC 20426.

The workshop will focus on the “assessment” aspect of supply chain risk management (SCRM). Specifically, the workshop panels will discuss the proposed directive in the Commission's September 19, 2024 Notice of Proposed Rulemaking ¹ to require that entities establish steps in SCRM plans to validate the completeness and accuracy of information received from vendors during the procurement process to better inform the identification and assessment of supply chain risks associated with vendors' software, hardware, or services.

¹ Supply Chain Risk Management Reliability Standards Revisions, Notice of Proposed Rulemaking, 188 FERC ¶ 61,174 (2024).

The workshop will take place in a hybrid format, with panelists participating in person and attendees allowed in person or virtually. A detailed agenda and further details on both in-person and virtual attendance will be published in eLibrary prior to the workshop. There is an “eSubscription” link on the Commission's website that enables subscribers to receive email notification when a document is added to a subscribed docket(s). For assistance with any FERC Online service, please email FERCOnlineSupport@ferc.gov, or call (866) 208-3676 (toll free). For TTY, call (202) 502-8659.

This workshop will be accessible under section 508 of the Rehabilitation Act of 1973. For accessibility accommodations please send an email to accessibility@ferc.gov or call toll free (866) 208-3372 (voice) or (202) 502-8659 (TTY), or send a fax to (202) 208-2106 with the required accommodations.

The Commission will accept comments following the conference, with a deadline of March 28, 2025. For more information about this workshop, please contact Alan Herd at alan.herd@ferc.gov, Jamie Calderon at jamie.calderon@nerc.net, or Michaelson Buchanan at michaelson.buchanan@nerc.net.

Dated: February 24, 2025.
Debbie-Anne A. Reese,
Secretary.

[FR Doc. 2025-03274 Filed 2-27-25; 8:45 am]

BILLING CODE 6717-01-P